DEPARTMENT OF TRANSPORTATION

Federal Railroad Administration

[Docket No. FRA-2020-0027-N-17]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified below.

DATES: Interested persons are invited to submit comments on or before October 26, 2020.

ADDRESSES: Submit written comments and recommendations for the proposed ICR to either: Ms. Qiana Swayne, Information Collection Clearance Officer, at Qiana.Swayne@dot.gov or (202) 493-0414. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Workforce Development Survey.

OMB Control Number: 2130-0621.

Abstract: FRA has statutory responsibility to ensure the safety of railroad operations under 49 U.S.C. 20103. To conduct safe railroad operations, the workforce must have the requisite knowledge and skills to operate equipment and utilize technologies. FRA therefore seeks to promote workforce development policy and standards to ensure the workforce has the necessary knowledge and skills to conduct safe railroad operations. Due to an increasingly dynamic and maturing workforce, combined with continual changes in knowledge and skills required to use new technologies, there is an increasing risk of not having the necessary talent pools to fill critical railroad operational positions.

Since 2011, FRA has routinely performed a comprehensive overview of the railroad industry workforce. The Railroad Industry Modal Profile was a response to the DOT National Transportation Workforce Development Initiative that required each DOT Operating Administration to produce an analysis of its industry workforce. The most recent published update in April 2016, Railroad Industry Modal Profile: An Outline of the Railroad Industry Workforce Trends, Challenges, and Opportunities, highlighted numerous workforce challenges including age, diversity, knowledge management and succession planning, work-life balance, recruitment, and the impact of evolving technology.

The prevailing workforce concerns during the early stages of the DOT National Transportation Workforce Development Initiative were the large number of retirement-eligible employees in transportation-related fields and the national shortage of science, technology, engineering, and math graduates. Because the railroad industry had done very little hiring in the late 1980s and throughout most of the 1990s, the retirement-eligible population became quite large, even beyond that of most other industries and transportation modes (each of which was also grappling with similar retirement population concerns).

These workforce challenges persist. Although the industry has recognized the need to focus on recruitment and retention strategies, it continues to face risks in maintaining a viable workforce and building a pipeline of diverse talent. To take effective and efficient action to minimize these risks, FRA requires reliable information on current workforce development challenges, strategies, and outcomes. Initial data collected for the Railroad Industry Modal Profile established a baseline understanding of the risks and status. However, to confirm and further develop the understanding of the risks, potential solutions, and best practices that have been implemented by railroad stakeholders, this revised survey is proposed. With this submission, FRA is requesting permission to gather the needed information about the railroad industry workforce.

Type of Request: Revision to a currently approved information collection.

Affected Public: Class I freight and passenger railroads, short line and regional railroads, labor unions, major associations, academia, and specialty experts.

Form(s): FRA F 240.

Respondent Universe: 847.

Frequency of Submission: One-time.

Reporting Burden:

Workforce development professionals | Respondent universe | Total annual responses | Average time (minutes) per response | Total annual burden hours | Total annual dollar cost equivalent
Passenger Railroads | 35 | 12 | 25.00 | 5.00 | $204.95
Class 1 Freight Railroads | 7 | 50 | 25.00 | 20.83 | 853.96
Short Line & Regional Railroads | 752 | 125 | 25.00 | 52.08 | 2,134.90
Labor Unions (with specific focus on workforce membership and railroad programs) | 15 | 7 | 25.00 | 2.92 | 119.55
Associations (with specific focus on railroad workforce membership and the rail industry) | 20 | 10 | 25.00 | 4.17 | 170.79
Academia (Learning institutions with dedicated curriculum and training programs for railroad industry) | 18 | 9 | 25.00 | 3.75 | 153.71
Total | 847 | 213 | 150.00 | 88.75 | 3,637.86

Total Estimated Annual Responses: 213.

Total Estimated Annual Burden: 88.75 hours.

Total Estimated Annual Burden Hour Dollar Cost Equivalent: $3,637.86.

Under 44 U.S.C. 3507(a) and 5 CFR 1320.5(b) and 1320.8(b)(3)(vi), FRA informs all interested parties that it may not conduct or sponsor, and a respondent is not required to respond to, a collection of information unless it displays a currently valid OMB control number.

(Authority: 44 U.S.C. 3501-3520.)

Brett A. Jortland,
Deputy Chief Counsel.

[FR Doc. 2020-18683 Filed 8-25-20; 8:45 am]

BILLING CODE 4910-06-P